DEPARTMENT OF ENERGY

Federal Energy Regulatory Commission

[Project No. 2459-263]

Lake Lynn Generation, LLC; Notice of Intent To File License Application, Filing of Pre-Application Document, and Approving Use of the Traditional Licensing Process

a. Type of Application: Notice of Intent to File License Application and Request to Use the Traditional Licensing Process.

b. Project No.: 2459-263.

c. Date filed: August 29, 2019.

d. Submitted by: Lake Lynn Generation, LLC (Lake Lynn).

e. Name of Project: Lake Lynn Hydroelectric Project.

f. Location: Located on the Cheat River near the City of Morgantown, West Virginia, in Monongalia County, West Virginia and Fayette County, Pennsylvania. The project does not occupy any federal land.

g. Filed Pursuant to: 18 CFR 5.3 of the Commission's regulations.

h. Potential Applicant Contact: Mrs. Jody Smet, Lake Lynn Generation, LLC, 2 Bethesda Metro Center, Suite 1330, Bethesda, MD 20814; Telephone: (804) 739-0654; Email: jsmet@cubehydro.com.

i. FERC Contact: Andy Bernick at (202) 502-8660; or email at andrew.bernick@ferc.gov.

j. Lake Lynn filed its request to use the Traditional Licensing Process on August 29, 2019. Lake Lynn provided public notice of its request on August 29, 2019. In a letter dated October 17, 2019, the Director of the Division of Hydropower Licensing approved Lake Lynn's request to use the Traditional Licensing Process.

k. With this notice, we are initiating informal consultation with the U.S. Fish and Wildlife Service under section 7 of the Endangered Species Act and the joint agency regulations thereunder at 50 CFR, Part 402. We are also initiating consultation with the West Virginia State Historic Preservation Officer and the Pennsylvania State Historic Preservation Officer, as required by section 106, National Historic Preservation Act, and the implementing regulations of the Advisory Council on Historic Preservation at 36 CFR 800.2.

l. With this notice, we are designating Lake Lynn as the Commission's non-federal representative for carrying out informal consultation pursuant to section 7 of the Endangered Species Act; and consultation pursuant to section 106 of the National Historic Preservation Act.

m. Lake Lynn filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 2459. Pursuant to 18 CFR 16.8, 16.9, and 16.10 each application for a new license and any competing license applications must be filed with the Commission at least 24 months prior to the expiration of the existing license. All applications for license for this project must be filed by November 30, 2022.

p. Register online at http://www.ferc.gov/docs-filing/esubscription.asp to be notified via email of new filing and issuances related to this or other pending projects. For assistance, contact FERC Online Support.

Dated: October 17, 2019.
Kimberly D. Bose,
Secretary.

[FR Doc. 2019-23097 Filed 10-22-19; 8:45 am]

BILLING CODE 6717-01-P